DEPARTMENT OF HEALTH AND HUMAN SERVICES

Administration for Children and Families

Administration for Native Americans; Statement of Organization, Functions, and Delegations of Authority

AGENCY: Administration for Children and Families, HHS.

ACTION: Notice.

SUMMARY: The Administration for Children and Families (ACF) has reorganized the Administration for Native Americans (ANA). This reorganization creates the Division of Policy and makes other technical changes to reflect the current functions within ANA. The realignment of functions better reflects the current work environment and priorities within ANA, manifests ANA's commitment to Federal/Tribal government-to-government relationships, and promotes self-determination for all Native Americans. The statement of mission, organization, functions, and delegations of authority conforms to and carries out the statutory requirements of the Native American Programs Act (NAPA).

FOR FURTHER INFORMATION CONTACT: Lillian Sparks-Robinson, Commissioner, Administration for Native Americans, 901 D Street SW., Washington, DC 20447, 202-401-5590.

This notice amends Part K of the Statement of Organization, Functions, and Delegations of Authority of the Department of Health and Human Services (HHS), Administration for Children and Families (ACF), as follows: Chapter KE, Administration for Native Americans (ANA), as last amended in 74 FR 3053-54, Jan. 16, 2009.

SUPPLEMENTARY INFORMATION: I. Under Chapter KE, Administration for Native Americans, delete KE in its entirety and replace with the following:

KE.00 MISSION. The mission of the Administration for Native Americans (ANA) is to promote the goal of self-sufficiency and cultural preservation for Native Americans by providing social and economic development opportunities through financial assistance, training, and technical assistance to eligible Tribes and Native American communities, including American Indians, Alaska Natives, Native Hawaiians, and other Native Pacific Islander organizations. ANA provides funding for community-based projects that are designed to improve the lives of Native children and families and reduce long-term dependency on public assistance. Competitive funding authorized under the Native American Programs Act of 1974 (NAPA), as amended, for community-based projects is provided through three competitive discretionary grant programs to eligible Tribes and non-profit Native American organizations: Social and economic development, language preservation, and environmental regulatory enhancement. In carrying out the provisions of NAPA, the Commissioner advises the Secretary, through the Assistant Secretary for Children and Families, on federal policies affecting Native Americans and matters pertaining to Native Americans within the Department of Health and Human Services and with other Departments and agencies of the Federal Government.

KE.10 ORGANIZATION. ANA is headed by a Commissioner who is confirmed by the Senate and reports directly to the Assistant Secretary for Children and Families. ANA is organized as follows:

Office of the Commissioner (KEA)

Intra-Departmental Council on Native American Affairs (KEB)

Division of Program Operations (KEC)

Division of Program Evaluation and Planning (KED)

Division of Policy (KEE)

KE.20 Functions

A. The Office of the Commissioner provides executive leadership, management strategies, and day-to-day operational leadership for all components of ANA. The Commissioner serves as an effective and visible advocate on behalf of Native Americans within the Department, and with other departments and agencies of the Federal Government regarding all federal policies affecting Native Americans. The Commissioner provides policy direction and guidance to ACF Regional Offices with respect to programs for reservation-based Indians, urban Indians, off-Reservation Indians, and other Native American projects in Hawaii and the Pacific Islands. The Commissioner oversees the Native Hawaiian Revolving Loan Fund administered by the Office of Hawaiian Affairs. The Commissioner also ensures training and technical assistance and other resources are allocated and deployed to support and promote ANA's mission.

The Commissioner is the Chair of the Intra-Departmental Council on Native American Affairs (ICNAA) and advises the Secretary on Native American issues. ICNAA staff members provide support to the Commissioner. ICNAA develops and promotes HHS policy to provide greater access and quality services for American Indians, Alaska Natives, and Native Americans (AI/AN/NAs) throughout the Department and where possible, the Federal Government; promotes implementation of HHS policy and agency plans on consultation with AI/AN/NAs and Tribal Governments; identifies and develops legislative, administrative, and regulatory proposals that promotes an effective, meaningful AI/AN/NA policy to improve health and human services for AI/AN/NAs; identifies and develops comprehensive Departmental strategy proposal to promote self-sufficiency and self-determination for all AI/AN/NA people; and promotes the Tribal/Federal government-to-government relationship on a Department-wide basis in accordance with Presidential Executive Order.

The Deputy Commissioner reports to the Commissioner, assists the Commissioner in carrying out the responsibilities of ANA, and performs the duties of the Commissioner when absent. The Deputy Commissioner supervises all three Division Directors. In addition, the Deputy Commissioner provides day-to-day supervision and oversight to the Management Operations Staff (MOS), coordinates the activities of the ACF Native American Affairs Liaison Workgroup, serves as the ANA liaison to the Inter-Departmental Council on Native American Affairs, provides coordination of ANA's data driven strategic plan, and advises the Commissioner on strategic and operational activities of ANA.

The MOS provides administrative and budget support to ANA. These responsibilities include: (1) Serving as the Executive Secretariat for ANA, including managing correspondence, correspondence systems, and public requests including, but not limited to Freedom of Information Act (FOIA) requests; (2) coordinating human resources activities; (3) developing and executing the budget; (4) providing on-going administrative technical support of ANA contracts; and (5) as appropriate, developing internal policies and procedures relating to these activities.

B. The Division of Program Operations is primarily responsible for the pre-award and post-award administration of discretionary grant programs to eligible Tribes and non-profit Native American organizations. These responsibilities include: (1) Developing ANA's Funding Opportunity Announcements; (2) managing annual grant competitions, including coordination of the panel review process and internal application review; (3) on-going grantee monitoring and support; (4) administering grant award portfolio, including close-out; and (5) providing liaison to the Office of Administration, Divisions of Grants Management and Division of Grants Policy.

C. The Division of Program Evaluation and Planning is responsible for evaluations of grantee effectiveness and impact as well as ANA performance including, but not limited to Government Performance and Results Act measures. These responsibilities include: (1) Oversight of planning and implementation activities related to ANA program evaluation, including development of annual reports, which includes the annual Report to Congress on Impact and Effectiveness; (2) data analyses and special organizational studies to guide programmatic enhancements and inform training and technical assistance efforts; (3) coordination of pre-award and post-award training and technical assistance activities in Alaska, the Pacific Basin, and the lower forty-eight states; (4) coordination of ANA's data and social media tools; and (5) liaison with the Office of Planning, Research and Evaluation.

D. The Division of Policy is responsible for providing support and guidance to define, establish, and disseminate policy affecting Native American communities at large. These responsibilities include: (1) Management of a unified and effective policy formulation process, including coordination of ANA regulations and other policy issuances affecting grantees and Native American communities; (2) formulation of advice on tribal and state legislative, and other activities affecting Native Americans; (3) development of long- and short-term strategies to address issues raised in consultations and collaborations with Native Americans; (4) support of the activities of the ACF Tribal Advisory Committee and other committees, councils, and workgroups affecting Native Americans; and (5) liaison with the Office of the General Counsel and others in the Department on matters involving or affecting Native Americans.

II. Continuation of Policy. Except as inconsistent with this reorganization, all statements of policy and interpretations with respect to organizational components affected by this notice within ACF, heretofore issued and in effect on this date of this reorganization are continued in full force and effect.

III. Delegation of Authority. All delegations and redelegations of authority made to officials and employees of affected organizational components will continue in them or their successors pending further redelegations, provided they are consistent with this reorganization.

IV. Funds, Personnel, and Equipment. Transfer of organizations and functions affected by this reorganization shall be accompanied in each instance by direct and support funds, positions, personnel, records, equipment, supplies, and other resources.

This reorganization will be effective upon date of signature.

Dated: November 24, 2014.
Mark H. Greenberg,
Acting Assistant Secretary for Children and Families.

[FR Doc. 2014-28486 Filed 12-3-14; 8:45 am]

BILLING CODE 4184-01-P